DEPARTMENT OF JUSTICE

Federal Bureau of Prisons

Notice of Intent To Prepare a Draft Environmental Impact Statement (DEIS) for Housing Approximately 1,380 Low-Security, Adult Male Inmates, That Are Predominantly District of Columbia Sentenced Felons and Criminal Aliens at a Privately Owned Institution in Winton, NC or Princess Anne, MD

AGENCY: U.S. Department of Justice, Federal Bureau of Prisons.

ACTION: Notice.

SUMMARY: Pursuant to section 102(2)(c) of the National Environmental Policy Act (NEPA) of 1969, as implemented by the Council on Environmental Quality Regulations (40 Code of Federal Regulations [CFR] parts 1500-1508), the Federal Bureau of Prisons (BOP) intends to prepare a Draft Environmental Impact Statement (DEIS) and conduct Public Scoping Meetings for the proposed housing of inmates under the District of Columbia (DC) III solicitation, at a facility in Winton, North Carolina or Princess Anne, Maryland.

SUPPLEMENTARY INFORMATION: The mission of the United States Department of Justice, BOP, is to protect society by confining offenders in the controlled environments of prison and community-based facilities that are safe, humane, cost-efficient, and appropriately secure, and that provide work and other self-improvement opportunities to assist offenders in becoming law-abiding citizens. The BOP accomplishes its mission through the appropriate use of community correction, detention, and correctional facilities that are either: federally-owned and operated; federally owned and non-federally operated; and non-federally owned and operated.

Proposed Action

The BOP is facing a period of unprecedented growth in its inmate population. Projections show the Federal inmate population increasing from approximately 201,600 inmates at the end of fiscal year 2008 to 212,000 inmates by the end of fiscal year 2010. As such, the demand for bed space within the Federal prison system continues to grow at a significant rate. To accommodate a portion of the growing inmate population, the BOP proposes to contract with a contractor owned and operated correctional facility that can house approximately 1,380 low-security, adult male inmates, that are predominantly District of Columbia sentenced felons and criminal aliens.

Proposals received by the BOP from private contractors include an existing facility in Winton, Hertford County, North Carolina and new construction at a site in Princess Anne, Somerset County, Maryland. The BOP has preliminarily evaluated these proposals and determined that the prospective facility/sites appear to be of sufficient size to provide space for inmate housing, programs, administrative services and other support facilities associated with the correctional facility. The DEIS to be prepared by the BOP will analyze the potential impacts of correctional facility construction and/or operation at these locations.

The Process

In the process of evaluating the sites, several aspects will receive detailed examination including, but not limited to: Topography, geology/soils, hydrology, biological resources, utility services, transportation services, cultural resources, land uses, socio-economics, hazardous materials, and air and noise quality, among others.

Alternatives

In developing the DEIS, the options of “no action” and “alternative sites” for the proposed facility will be fully and thoroughly examined.

Scoping Process

During the preparation of the DEIS, there will be opportunities for public involvement in order to determine the issues to be examined in the DEIS. A Public Scoping Meeting will be held at 7 p.m. August 27, 2009 at the County Commissioners Meeting Room in the County Office Building, located at 704 King Street in Winton, North Carolina.

In addition, a Public Scoping meeting will be held at 7 p.m., September 1, 2009 at the Washington Academy High School, located at 10902 Old Princess Anne Road in Princess Anne, Maryland. The meeting locations, dates, and times will be well publicized and have been arranged to allow for public involvement, as well as interested agencies and organizations to attend. The meetings are being held to allow interested persons to formally express their views on the scope and significant issues to be studied as part of the DEIS process. The meetings will provide for timely public comments and understanding of Federal plans and programs with possible environmental consequences as required by the NEPA of 1969, as amended, and the National Historic Preservation Act of 1966, as amended.

DEIS Preparation

Public notice will be given concerning the availability of the DEIS for public review and comment at a later date.

Address

All are encouraged to provide comments on the proposed action and alternatives at either Public Scoping Meetings and anytime during the 30-day public scoping period, which ends September 15, 2009. There are two ways in which comments may be submitted: (1) By attending one of the scoping meetings or (2) by mail. All written comments concerning the proposed action should be postmarked no later than September 15, 2009.

Comments submitted by mail or questions concerning the proposed action and the DEIS may be directed to: Richard A. Cohn, Chief or Issac J. Gaston, Site Selection Specialist, Capacity Planning and Site Selection Branch, Federal Bureau of Prisons, 320 First Street, NW., Washington, DC 20534. Tel: 202-514-6470/Fax: 202-616-6024/E-mail: racohn@bop.gov.

Dated: August 4, 2009.
Richard A. Cohn,
Chief, Capacity Planning and Site Selection Branch.

[FR Doc. E9-19023 Filed 8-6-09; 8:45 am]

BILLING CODE P